DEPARTMENT OF JUSTICE

Notice of Lodging of Modification of Consent Decree Under the Resource Conservation and Recovery Act

Notice is hereby given that on October 14, 2011, a proposed Modification of a Consent Decree between the United States of America and Rineco Chemical Industries, Inc. (“Rineco”) was lodged with the United States District Court for the Eastern District of Arkansas in the case of United States v. Rineco Chemical Industries, Inc., Civil Action No. 4-07-CV-01189SWW.

In December 2007, the United States filed a complaint seeking injunctive relief and civil penalties resulting from Rineco's failure, inter alia, to obtain a permit under the Resource Conservation and Recovery Act (“RCRA”) for its ownership and operation of a Thermal Metal Washing unit (“TMW”), in violation of Section 3005(a) of RCRA, 42 U.S.C. 6925(a); and applicable Arkansas Pollution Control and Ecology Commission regulations in connection with Rineco's fuel blending facility located in Benton, Arkansas.

On October 16, 2010, the United States and Rineco entered into a Consent Decree which resolved the claims alleged in the United States' complaint. Under the Consent Decree, Rineco paid a civil penalty of $1,350,000. The Consent Decree also requires Rineco to apply for a RCRA permit for the TMW and its related hazardous waste storage and control any fugitive emissions from the TMW at the facility; perform trial and risk burns for the TMW to identify appropriate incinerator level and risk based operating and control parameters for the unit; file a notification and description of hazardous waste activity for the TMW; and establish financial assurances for the TMW and its related hazardous waste storage.

The proposed Modification of the Consent Decree allows Rineco an additional year until October 14, 2012, to obtain a final permit and to continue to operate its TMW under RCRA; provided that Rineco complies with a number of specified interim operation conditions and deadlines as well as the other requirements of the Consent Decree. Rineco's authorization to continue to operate the TMW under the Consent Decree beyond October 14, 2011, is expressly conditioned on Rineco's completion of each of the milestone deadlines specified in the modification to the satisfaction of the Arkansas Department of Environmental Quality (“ADEQ”) and the Environmental Protection Agency (“EPA”). The interim milestones include deadlines for the approval of the trial burn plan, the conduct of the trial burn, the notice of compliance (“NOC”), the risk assessment report, the approval of the NOC, and the issuance of a final RCRA permit for the TMW. Significant stipulated penalties are included in the modification for Rineco's operation of the TMW after failure to meet any of the interim milestones set forth in the modification.

The Department of Justice will receive for a period of thirty (30) days from the date of this publication comments relating to the proposed Modification of the Consent Decree. Comments should be addressed to the Assistant Attorney General, Environment and Natural Resources Division, and either e-mailed to pubcomment-ees.enrd@usdoj.gov, or mailed to P.O. Box 7611, U.S. Department of Justice, Washington, DC 20044-7611, and should refer to United States et al. v. Rineco Chemical Industries, Inc., D.J. Ref. #90-7-2-1-08902.

The Modification of the Consent Decree may be examined at U.S. EPA Region 6, 1445 Ross Avenue, Dallas, Texas 75202 (contact Jonathan Bull). During the public comment period, the Modification of the Consent Decree also may be examined on the following Department of Justice Web site: http://www.usdoj.gov/enrd/Consent_Decrees.html. A copy of the Modification of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $3.25 (25 cents per page reproduction cost) payable to the U.S. Treasury, or, if by e-mail or fax, forward a check in that amount to the Consent Decree Library at the stated address.

Maureen Katz,
Assistant Chief, Environmental Enforcement Section, Environment and Natural Resources Division.

[FR Doc. 2011-27260 Filed 10-20-11; 8:45 am]

BILLING CODE 4410-15-P